DEPARTMENT OF THE INTERIOR

Bureau of Indian Affairs

Grant Availability to Federally Recognized Indian Tribes for Projects Implementing Traffic Safety on Indian Reservations

AGENCY: Bureau of Indian Affairs, Interior.

ACTION: Notice.

SUMMARY: In accordance with the Surface Transportation and Uniform Relocation Assistance Act of 1987, and as authorized by the Secretary of Transportation, the Bureau of Indian Affairs (BIA) intends to make funds available to federally recognized Indian tribes on an annual basis for implementing traffic safety projects, which are designed to reduce the number of traffic crashes, death, injuries, and property damage within Indian Country. All project applications received will be reviewed and selected on a competitive basis. This notice informs Indian tribes that grant funds are available and that information packets are being mailed to all tribal leaders on the latest Tribal Leaders list that is compiled by the BIA. A copy of the Application Packet can also be obtained by contacting the BIA Indian Highway Safety Office.

DATES: Request for funds must be received by May 1, of each program year. Requests not in the office of the Indian Highway Safety Program by the close of the business day on May 1, will not be considered and will be returned unopened. The information packets will be distributed to tribal leaders by the end of January of each program year.

ADDRESSES: Each tribe must submit its request to the BIA Division of Safety and Risk Management, Attention: Indian Highway Safety Program Coordinator, 1011 Indian School, NW., Suite 331, Albuquerque, New Mexico 87104.

FOR FURTHER INFORMATION CONTACT: Tribes should direct questions to Patricia Abeyta, Coordinator, Indian Highway Safety Program, or to Paul Holley, Program Administrator, Bureau of Indian Affairs, 1011 Indian School, NW., Suite 331, Albuquerque, New Mexico 87104, telephone number 505-563-5371, or 505-563-5373.

Background

The Federal Aid Highway Act of 1973 (Pub. L. 93-87) provides for the U.S. Department of Transportation (DOT) funding to assist Indian tribes in implementing Highway Safety projects. The projects must be designed to reduce the number of motor vehicle traffic crashes and their resulting fatalities, injuries, and property damage on Indian reservations and within Indian communities. All federally recognized Indian tribes with qualifying Highway Safety projects are eligible to receive this assistance. All tribes receiving awards of program funds are reimbursed for eligible costs incurred under the terms of 23 U.S.C. 402 and subsequent amendments.

Responsibilities

For the purposes of application of the Act, Indian reservations are collectively considered a “State” and the Secretary of the Interior is considered the “Governor of a State.” The Secretary of the Interior delegated the authority to administer the programs for all the Indian nations in the United States to the Assistant Secretary—Indian Affairs. The Assistant Secretary—Indian Affairs further delegated the responsibility for administration of the Indian Highway Safety Program to the Central Office, Division of Safety and Risk Management (DSRM) located in Albuquerque, New Mexico. The Chief, DSRM, as Program Administrator of the Indian Highway Safety Program, has staff members available to provide program and technical assistance to Indian tribes. The Indian Highway Safety Program maintains contact with the DOT with respect to program approval, funding and receiving technical assistance. The National Highway Traffic Safety Administration (NHTSA) is responsible for ensuring that the Indian Highway Safety Program is carried out in accordance with the 23 CFR part 1200 and other applicable Federal statutes and regulations.

National Priority Program Areas

The following highway safety program areas have been identified as priority program areas eligible for funding under 23 CFR 1205.3 on tribal lands.

a. Impaired driving;

b. Occupant protection;

c. Traffic records.

Other fundable program areas may be considered based upon well documented problem identification from the tribes.

Indian Highway Safety Program Funding Areas

Proposals are being solicited for the following program areas:

1. Impaired Driving: Programs directed at reducing injuries and death attributed to impaired driving on the reservations such as: Selective Traffic Enforcement Programs (STEP) to apprehend impaired drivers; specialized law enforcement training (such as Standardized Field Sobriety Testing); public information programs on alcohol/other drug use and driving; education programs for convicted DWI/DUI offenders; various youth alcohol education programs promoting traffic safety; and programs or projects directed toward judicial training. Proposals for projects that enhance the development and the implementation of innovative programs to combat impaired driving are also solicited.

2. Occupant Protection: Programs directed at decreasing injuries and deaths attributed to the lack of safety belt and child-restraint usage such as: surveys to determine usage rates and to identify high-risk non-users; comprehensive programs to promote correct usage of child safety seats and other occupant restraints; enforcement of safety belt ordinances or laws; specialized training (such as Operation Kids, Traffic Occupant Protection Strategies [TOPS]); and Standardized Child passenger Safety Technician Training and evaluations.

3. Traffic Records: Programs to help the tribes develop or update electronic traffic records systems which will assist with analysis of crash information, causational factors, and support joint efforts with other agencies to improve the tribe's traffic records.

Project Guidelines

The BIA will send information packets to the tribal leaders of each federally recognized Indian tribe by the end of January of each program year. Upon receiving the information packet, each tribe, to be eligible, must prepare a proposed project based on the following guidelines:

1. Program Planning: Program shall be based upon the highway safety problems identified and the goals/objectives measures selected by the tribe.

2. Problem Identification: Highway traffic safety problems shall be based upon accurate tribal data. This data should show problems and/or trend analysis and should be available in tribal enforcement and traffic crash records. The data must accompany the proposal.

3. Countermeasures Selection: Once tribal traffic safety problems are identified, appropriate countermeasures to solve or reduce the problem(s) must be identified.

4. Objectives/Performance Measures: List of objectives and measurable goals, within the National Priority Program Areas, based on highway safety problems identified by the tribe, must be included in each proposal, expressed in clearly defined, time-framed, and measurable terms. (Example: To decrease alcohol related motor vehicle crashes by _percent from the 2005 number of_to_by the end of fiscal year 2008). Performance indicators that enable the Indian Highway Safety Program to track progress, from a specific baseline, must accompany each goal. Performance measures should be aggressive but attainable.

5. Line Item Budget: The activities to be funded must be outlined in detail according to the following object groups: personnel services; travel and training; operating costs; and equipment. Because of limited funding, this office will limit indirect costs to a maximum of 15 percent; however, all tribes applying for grants must attach a copy of the tribe's indirect cost rate to the application.

6. Evaluation Plan: Evaluation is the process of determining whether a highway safety activity has accomplished its objectives. The tribe must include, in the funding request, a plan explaining how the evaluation will be accomplished and identify the criteria to be used in measuring performance.

7. Funding Requirements: With the enactment of the Safe, Accountable, Flexible, Efficient Transportation Equity Act—A Legacy for Users (SAFETEA-LU), the BIA Indian Highway Safety Program, to certify, on behalf of the tribes, that the program will meet certain conditions and comply with all applicable rules and regulations for administering a highway safety program. In addition to program oversight and technical assistance, the BIA must certify that it will implement the following activities in support of national highway safety goals:

a. Participate in the national law enforcement mobilizations;

b. Encourage sustained enforcement of impaired driving, occupant protection, and speeding;

c. Conduct an annual safety belt survey in accordance with criteria established by the Secretary to measure safety belt usage rates;

d. Develop data systems to provide timely and effective data analysis to support allocation of highway traffic safety resources.

8. In order to comply with the provisions of SAFETEA-LU and the State Certifications and Assurances, the BIA Indian Highway Safety Program will allocate funds on behalf of the tribes to implement the provisions listed in (7) above. Copies of the State Certifications and Assurances are available upon request, or at: http://www.nhtsa.dot.gov/nhtsa/whatsup/tea21/GrantMan/HTML/StateCertifications_8-05.html.

9. Project Length: Traffic safety program funding is designed primarily as the source of invention and motivation. This program is not intended for long term financial support of continuing and on-going operations.

10. Certification Regarding Drug-Free Workplace Requirement: Indian tribes receiving highway safety grants through the Indian Highway Safety Program must certify that they will maintain a drug-free workplace.

11. Certification Regarding Lobbying: Indian tribes receiving highway safety grants through the Indian Highway Safety Program must certify that they will not use any of the direct funds to pay for, by or on behalf of the tribes, to any person for influencing or attempting to influence an officer or employee of any agency, a member of Congress, an officer or employee of Congress, or an employee of a member of Congress in connection with the awarding of any Federal contract, the making of any Federal grant, the making of any Federal loan, the entering into of any cooperative agreement, and the extension, continuation, renewal, amendment, or modification of any Federal contract, grant, loan, or cooperative agreement. (None of the funds under this program can be used for any activity specifically designed to urge or influence a State or local legislator to favor or oppose the adoption of any specific legislative proposal pending before any State or local legislative body.)

Submission Deadline

Each tribe must send its funding request to the BIA Indian Highway Safety Program offices in Albuquerque, New Mexico by the close of business on May 1, of each program year.

Selection Criteria

Each funding request will be reviewed and evaluated by the BIA Indian Highway Safety Program staff and a designated selection committee. Each member, by assigning points to the following five criteria, will rank each of the proposals based on the following criteria:

Criteria 1: the strength of the Problem Identification based on verifiable, current, and applicable documentation of the traffic safety problem (40 points maximum).

Criteria 2: the quality of the proposed solution plan based on aggressive but attainable Performance Measures, time-framed action plan, cost eligibility, amount, if any, of in-kind funding/support provided by the tribe, and necessity and the reasonableness of the budget (30 points maximum).

Criteria 3: details on how the tribe will evaluate and show progress on its performance measures regarding the Evaluation component (20 points maximum).

Criteria 4: documentation in support of the submitting tribe's qualification, commitment, and community involvement in traffic safety should be included (10 points maximum).

Criteria 5: tribes that have been funded before are eligible for bonus points (up to 10 extra points) if all reporting requirements have been met in previous years.

Notification on Non-Selection

The Program Administrator will notify each tribe of non-selection.

Uniform Administrative Requirements for Grant-in-Aid

Uniform grant administration procedures have been established on a national basis for all grant-in-aid programs by DOT and the NHTSA, under 49 CFR part 18, “Uniform Administrative Requirements for Grants and Cooperative Agreements to State and Local Government.” The NHTSA and the FHWA have codified uniform procedures for State Highway Safety Programs in 23 CFR parts 1200, 1205 and 1251. The OMB Circular A-87 and the “Highway Safety Grant Funding Policy for NHTSA/FHWA Field Administered Grants” are the established cost principles applicable to grants and contracts through BIA and with tribal governments. A copy of the Grant Funding Policy document can be obtained from the BIA Indian Highway Safety Program office or at: http://www.nhtsa.dot.gov/nhtsa/whatsup/tea21/GrantMan/HTML/01_GrantFundPolicy.html. It is the responsibility of the BIA Indian Highway Safety Program office to establish operating procedures consistent with the applicable provisions of these rules.

Standards for Financial Management System

Tribal financial systems must provide for:

1. Current and complete disclosure of project actions;

2. Accurate and timely recordkeeping;

3. Accountability and control of all grants funds and equipment;

4. Comparison of actual expenditures with budgeted amounts and;

5. Documentation of accounting records.

Auditing of Highway Safety Projects will be included in the tribal A-133 single audit requirement. Copies of tribal audits must be available for inspection by the highway safety program staff. Tribes must provide monthly program status reports and a corresponding reimbursement claim to the Coordinator, BIA Indian Highway Safety program, 1011 Indian School Road, NW., Suite 331, Albuquerque, New Mexico 87104, in order to be reimbursed for program costs. These will be submitted no later than 10-working days beyond the reporting month.

Project Monitoring

During the program year, it is the responsibility of the BIA Indian Highway Safety Program office to review the implementation of tribal traffic safety plans and programs, monitor the progress of their activities and expenditures, and provide technical assistance as needed. This assistance may be on-site, by telephone, and/or a review of monthly progress claims.

Project Evaluation

The 23 CFR 1200.33 sets out the minimum information that must be contained in the annual report that is required to be submitted to NHTSA. The BIA will conduct an annual performance evaluation for each Highway Safety Project funded. Pursuant to § 1200.33, the evaluation will measure the actual accomplishments to the planned activity, and how the project and activities funded contributed to the overall goal of the Indian Highway Safety Program. Program staff will evaluate progress from baseline data as reported by the tribe. The BIA Indian Highway Safety Program staff will evaluate the project on-site at the discretion of the Indian Highway Safety Program Administrator.

Dated: March 14, 2008.
Carl J. Artman,
Assistant Secretary—Indian Affairs.

[FR Doc. E8-6349 Filed 3-27-08; 8:45 am]

BILLING CODE 4310-5H-P